DEPARTMENT OF COMMERCE

National Oceanic and Atmospheric Administration

[I.D. 100404D]

South Atlantic Fishery Management Council; Public Meetings

AGENCY: National Marine Fisheries Service (NMFS), National Oceanic and Atmospheric Administration (NOAA), Commerce.

ACTION: Notice of rescheduled public meetings.

SUMMARY: The South Atlantic Fishery Management Council (Council) will hold meetings of its Scientific and Statistical Committee (SSC), the SSC's Socioeconomic and Biological Assessment Subcommittees, and a joint meeting of the SSC and the SSC Selection Committee. The Council will also hold a joint meeting of its Shrimp Advisory Panel and Committee, Snapper Grouper Committee, and Standard Operation, Policy, and Procedure (SOPPs) Committee, and a joint Executive/Finance Committee meeting. Meetings will also be held by the full Council and the Shrimp Committee.

DATES: The meetings will be held October 24-28, 2004. See SUPPLEMENTARY INFORMATION for specific dates and times.

ADDRESSES: The meetings will be held at Pawley's Plantation, 70 Tanglewood Drive, Pawley's Island, SC 29585; telephone: 1-800-367-9959 or (843) 237-6100, fax: (843)237-6069.

Copies of documents are available from Kim Iverson, Public Information Officer, South Atlantic Fishery Management Council, One Southpark Circle, Suite 306, Charleston, SC 29407- 4699.

FOR FURTHER INFORMATION CONTACT: Kim Iverson, Public Information Officer; telephone: 843-571-4366 or toll free at 866-SAFMC-10; fax: 843-769-4520; email: kim.iverson@safmc.net.

SUPPLEMENTARY INFORMATION:

Meeting Dates

1. SSC Socioeconomic Subcommittee and SSC Biological Assessment Subcommittee: October 24, 2004 (Concurrent Sessions)

Socioeconomic Subcommittee Meeting: 1 p.m. — 5 p.m.

The SSC Socioeconomic Subcommittee will meet to discuss the Deepwater (Snowy Grouper and Golden tilefish) Assessment, review and comment on the Southeast Data, Assessment, and Review (SEDAR) stock assessment process, and review and comment on data for ecosystem-based management.

Biological Assessment Subcommittee: 1 p.m. — 5 p.m.

The SSC Biological Assessment Subcommittee will meet to discuss the Deepwater (Snowy Grouper and Golden tilefish) Assessment, review and comment on the SEDAR stock assessment process, and discuss the results of the Gulf of Mexico Fishery Management Council's SSC review of the Mackerel Assessment.

2. Scientific and Statistical Committee Meeting: October 25, 2004, 8:30 a.m. — 3 p.m.

The SSC will meet to review the Subcommittee reports and develop recommendations on the Deepwater Assessment, SEDAR stock assessment process and data for ecosystem-based management. The SSC will also provide input regarding the Ecosystem-Based Management for the Fishery Ecosystem Plan, and Amendment 13B to the Snapper Grouper Fishery Management Plan (FMP), and Amendment 15 to the Coastal Migratory Pelagics (mackerel) FMP.

3. Joint SSC Selection Committee and SSC Meeting: October 25, 2004, 3 p.m. — 5 p.m.

The Committees will develop recommendations for expanding the role of the SSC.

4. Snapper Grouper Committee Meeting: October 26, 2004, 8:30 a.m. — 3 p.m.

The Snapper Grouper Committee will meet to discuss the structure and timing of Amendment 13B to the Snapper Grouper FMP and stock status determination criteria contained in the draft document. The Committee will also review preliminary analysis of management regarding size limits, bag limits, and other management measures.

5. SOPPs Committee Meeting: October 26, 2004, 3 p.m. — 4 p.m.

The SOPPs Committee will review the Council's Standard Operating, Policy and Procedures and modify as appropriate.

6. Joint Executive Committee and Finance Committee Meeting: October 26, 2004, 4 p.m. — 5:30 p.m.

The Committees will meet jointly to review the current Calendar Year (CY) 2004 budget, the status of the Fiscal Year (FY) 2005 budget, and receive a briefing on the national councils/NOAA Fisheries budget planning for FY 2007-11. The Committees will develop timeline recommendations for CY 2005-09 FMP/Amendment/Framework development and approve the grant budget for that time period. The Committees will also review a discussion paper on Issues Affecting the South Atlantic Council's Fishery Management Plan/Amendment document.

7. Joint Shrimp Advisory Panel and Committee Meeting: October 27, 2004, 8:30 a.m. — 12 noon

The Shrimp Advisory Panel (AP) will meet jointly with the Committee to review public comments received for Amendment 6 to the Shrimp FMP and the AP will develop recommendations for the Committee to consider. The AP will also provide input on ecosystem considerations in the Shrimp FMP and receive a presentation on the NOAA Fisheries Shrimp Business Plan.

8. Council Session: October 27, 2004, 1:30 p.m. — 6 p.m.

From 1:30 p.m. — 1:45 p.m., the Council will call the meeting order, make introductions and roll call, and adopt the meeting agenda.

From 1:45 p.m. — 2 p.m., the Council will elect its Chairman and Vice-Chairman.

From 2 p.m. — 2:15 p.m., the Council will hear a report from the Snapper Grouper Committee and take action as appropriate.

From 2:15 p.m. — 2:30 p.m., the Council will hear a joint Executive/Finance Committee report and approve the CY 2005 FMP/Amendment/Framework timelines and CY 2005-2009 Grant Budget.

From 2:30 p.m. — 2:45 p.m., the Council will hear a SOPPs Committee report and approve the SOPPs for submission to the Secretary of Commerce.

From 2:45 p.m. — 3 p.m., the Council will hear a report from the SSC Selection Committee.

From 3 p.m. — 3:15 p.m., the Council will hear a report from the Information and Education Committee.

From 3:15 p.m. — 4:15 p.m., the Council will hear a Mackerel Status Report and review public comments on Amendment 15 to the Coastal Migratory Pelagics FMP.

From 4:15 p.m. — 4:30 p.m., the Council will hear status reports from NOAA Fisheries' Southeast Regional Office.

From 4:30 p.m. — 5 p.m., the Council will hear status reports from NOAA Fisheries' Southeast Fisheries Science Center.

From 5 p.m. — 6 p.m., the Council will hear agency and liaison reports.

9. Council Session: October 28, 2004, 8:30 a.m. — 12 noon

From 8:30 a.m. - 11:30 a.m., Shrimp Committee of the Whole Council

There will be a public comment period on Amendment 6 to the Shrimp FMP beginning at 8:30 a.m.

The Council will approve Amendment 6 to the Shrimp Fishery Management Plan.

From 11:30 a.m. — 12 noon, the Council will discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by October 22, 2004.

Dated: October 5, 2004.
Alan D. Risenhoover,
Acting Director, Office of Sustainable Fisheries, National Marine Fisheries Service.

[FR Doc. E4-2560 Filed 10-7-04; 8:45 am]

BILLING CODE 3510-22-S